DEPARTMENT OF COMMERCE

International Trade Administration

[A-274-804]

Carbon and Certain Alloy Steel Wire Rod From Trinidad and Tobago: Amended Final Results Pursuant to a Court Decision

AGENCY: Import Administration, International Trade Administration, Department of Commerce.

SUMMARY: On December 3, 2008, the United States Court of Appeals for the Federal Circuit (“CAFC”) affirmed the Department of Commerce's (“Department”) final results of redetermination pursuant to the Department's voluntary remand, wherein the Department calculated credit expenses from the date of invoice, rather than the date of shipment for Mittal Steel Point Lisas Ltd. (“Mittal”).¹ The Court also affirmed the Department's classification of Mittal's composite wire rod as non-prime merchandise. The period of review (“POR”) is October 1, 2003, through September 30, 2004. The Department is amending the final results of the second administrative review of carbon and certain alloy steel wire rod (“wire rod”) from Trinidad and Tobago to reflect the U.S. Court of International Trade's (“CIT”) decision.

¹ See Mittal Steel Point Lisas Ltd. v. United States, Unites States Court of Appeals 2008-1040, -1054 (Fed. Cir. 2008) (“Mittal v. United States”).

EFFECTIVE DATE: March 10, 2009.

FOR FURTHER INFORMATION CONTACT: Dennis McClure, AD/CVD Operations, Office 3, Import Administration, International Trade Administration, U.S. Department of Commerce, 14th Street and Constitution Avenue, NW, Washington, DC 20230; telephone: (202) 482-5973.

SUPPLEMENTARY INFORMATION: On November 16, 2005, the Department published its final results in the second administrative review of the antidumping duty order on wire rod from Trinidad and Tobago covering the POR.²

² See Notice of Final Results of Antidumping Duty Administrative Review: Carbon and Certain Alloy Steel Wire Rod from Trinidad and Tobago, 70 FR 69512 (November 16, 2005) (“Final Results”).

On December 16, 2005, and January 17, 2006, respectively, Mittal filed a summons and complaint with the U.S. Court of International Trade (“CIT”) challenging the Department's credit expense calculation and treatment of non-prime merchandise. On March 7, 2007, the Department requested a voluntary remand so that we could reevaluate the calculation of credit expenses and inventory carrying costs used to calculate constructed export price. On April 24, 2007, the CIT granted the Department's voluntary remand motion to reevaluate its calculation of credit expenses and inventory carrying costs and affirmed the Department's treatment of non-prime merchandise.

On June 21, 2007, the Department filed with the CIT its final results of redetermination, calculating credit expenses from the invoice date, rather than the shipment date. The Department also changed the inventory carrying costs used in its constructed export price calculation to reflect the date of invoice as the date of sale. On August 8, 2007, the CIT sustained the final results of redetermination on remand. On September 7, 2007, the Department notified the public that the final judgment in this case is not in harmony with the Final Results.

³ See Carbon and Certain Alloy Steel Wire Rod from Trinidad & Tobago: Amended Notice of Court Decision Not In Harmony with Final Results of Antidumping Duty Administrative Review, 72 FR 51408 (September 7, 2007).

On October 5, 2007, and October 9, 2007, respectfully, both Mittal and Gerdau Ameristeel Corp. and Keystone Consolidated Industries, Inc., the petitioners, appealed the CIT's decision. On December 3, 2008, the CAFC affirmed the CIT's decision on both issues. The deadline to appeal the redetermination pursuant to remand is March 3, 2009, 90 days after the date the CAFC affirmed the CIT's decision (i.e., December 3, 2008). However, on January 12, 2009, Mittal filed a motion to lift the injunction on liquidating entries related to this case, in which it informed the CIT that neither it nor petitioners intended to petition the U.S. Supreme Court for certiorari. The CIT granted Mittal's motion on January 13, 2009. Therefore, the Department is amending the Final Results with respect to Mittal.

Amended Final Results of Review

The remand redetermination explained that the Department determined to calculate credit expense from the date of invoice. Based on this reconsideration, we are amending the final results for Mittal. Accordingly, we are applying to Mittal the following dumping margin.

Manufacturer/exporter | Period of review | Weighted-average margin (%): Original: | Weighted-average margin (%): Revised:
Mittal Steel Point Lisas Ltd. (formerly Caribbean Ispat Limited) | 10/1/2003-9/30/2004 | 4.13 | 4.08

Assessment

The Department has determined, and U.S. Customs and Border Protection (“CBP”) shall assess, antidumping duties on all appropriate entries covered by these amended final results. The Department intends to issue assessment instructions to CBP 15 days after the publication date of these amended final results

Notification to Interested Parties

This notice serves as a final reminder to importers of their responsibility under 19 CFR 351.402(f)(2) to file a certificate regarding the reimbursement of antidumping duties prior to liquidation of the relevant entries. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is issued and published in accordance with sections 751(a)(1) and 777(i) of the Act.

Dated: March 4, 2009.
Ronald K. Lorentzen,
Acting Assistant Secretary for Import Administration.

[FR Doc. E9-5114 Filed 3-9-09; 8:45 am]

BILLING CODE 3510-DS-S